DEPARTMENT OF THE TREASURY

Internal Revenue Service

Open Meeting of Taxpayer Advocacy Panel, Area Four

AGENCY: Internal Revenue Service (IRS), Treasury.

ACTION: Notice.

SUMMARY: A telephone meeting of the Taxpayer Advocacy Panel will be held on November 18, 2002.

DATES: The meeting will be held Monday, November 18, 2002, from 11 a.m. to 1 p.m. Central Time.

FOR FURTHER INFORMATION CONTACT: Mary Ann Delzer at 1-888-912-1227, or 414-297-1604.

SUPPLEMENTARY INFORMATION: Notice is hereby given pursuant to section 10(a)(2) of the Federal Advisory Committee Act, 5 U.S.C. App. (1988) that an open meeting of the Taxpayer Advocacy Panel (TAP) will be held by telephone on Monday, November 18, 2002, from 11 a.m. to 1 p.m. Central Daylight Time. The Taxpayer Advocacy Panel is soliciting public comment, ideas, and suggestions on improving customer service at the Internal Revenue Service. You can submit written comments to the panel by faxing to (414) 297-1623, or by mail to Taxpayer Advocacy Panel, Mail Stop 1006 MIL, 310 West Wisconsin Avenue, Milwaukee, WI 53203-2221. Public comments will also be welcome during the meeting. Please contact Mary Ann Delzer at 1-888-912-1227, or 414-297-1604 for dial-in information. The Agenda will include the following: Media, marketing, and outreach planning, future meeting planning and the discussion of taxpayer service issues.

Note: Last minute changes to the agenda are possible and could prevent effective advance notice.

Dated: October 21, 2002.
Cathy VanHorn,
Director, Communications and Liaison.

[FR Doc. 02-27638 Filed 10-29-02; 8:45 am]

BILLING CODE 4830-01-P